DEPARTMENT OF THE INTERIOR

Bureau of Land Management

[LLIDC00000.13XL1109AF.L102000000.MJ000.4500054065]

Notice of Intent To Amend the Cottonwood Resource Management Plan and Prepare an Environmental Assessment and Notice of Realty Action: Proposed Sale of Public Land in Idaho County, Idaho

AGENCY: Bureau of Land Management, Interior.

ACTION: Notice of intent and notice of realty action.

SUMMARY: This notice provides for two related actions, one a proposed land use plan amendment involving approximately 19,054 acres of public land in Latah, Clearwater, Nez Perce, Lewis, Idaho, and Adams counties of Idaho; and the other proposed land sales involving 22.46 acres of public land in Idaho County being considered in the proposed plan amendment. In compliance with the National Environmental Policy Act of 1969, as amended (NEPA), and the Federal Land Policy and Management Act of 1976, as amended (FLPMA), the Bureau of Land Management (BLM) Cottonwood Field Office, Cottonwood, Idaho, intends to prepare a resource management plan (RMP) amendment and associated environmental assessment (EA) for the Cottonwood RMP including the proposed land sales involving 22.46 acres of public land, and by this notice is announcing the beginning of the scoping process to solicit public comments and identify related issues.

DATES: This notice initiates the public scoping process for the RMP amendment, proposed land sales of 22.46 acres of public land and associated EA. Comments on issues may be submitted in writing until July 20, 2015. The date(s) and location(s) of any scoping meetings will be announced at least 15 days in advance through local news media, newspapers, and the BLM Web site at: http://www.blm.gov/id/st/en/Districts-Idaho/CDA.html. In order to be included in the analysis, all comments must be received on or prior to the close of the 30-day scoping period or 15 days after the last public meeting, whichever is later. We will provide additional opportunities for public participation as appropriate.

ADDRESSES: You may submit comments on issues and planning criteria related to the RMP amendment and proposed sale by any of the following methods:

• Web site: http://www.blm.gov/id/st/en/Districts-Idaho/CDA.html.

• Email: blm_id_elkcitymillsite@blm.gov.

• Fax: 208-962-3275.

• Mail: BLM Cottonwood Field Office, ATTN: Elk City Mill Site, 1 Butte Drive, Cottonwood, ID 83522.

Documents pertinent to this proposal may be examined at the Cottonwood Field Office, 1 Butte Drive, Cottonwood, ID 83522. Please reference “Cottonwood RMP Amendment/Notice of Realty Action: Proposed Sale of Public Lands” on all correspondence.

FOR FURTHER INFORMATION CONTACT: Will Runnoe, Field Manager, at telephone: 208-962-3256, address: 1 Butte Drive, Cottonwood, ID 83522, email: blm_id_elkcitymillsite@blm.gov. Contact Mr. Runnoe to have your name added to our mailing list. Persons who use a telecommunications device for the deaf (TDD) may call the Federal Information Relay Service (FIRS) at 1-800-877-8339 to contact the above individual during normal business hours. The FIRS is available 24 hours a day, 7 days a week, to leave a message. You will receive a reply during normal business hours.

SUPPLEMENTARY INFORMATION: This document provides notice that the BLM Cottonwood Field Office, Cottonwood, Idaho, intends to prepare an RMP amendment and associated EA for the Cottonwood RMP and announces the beginning of the scoping process and seeks public input on issues and planning criteria. The planning area is located in Latah, Clearwater, Nez Perce, Lewis, Idaho, and Adams counties of Idaho, and encompasses approximately 132,240 acres of public land. The purpose of the public scoping process is to determine relevant issues that will influence the scope of the environmental analysis, including alternatives, and guide the planning process.

The purpose of the amendment is to clarify specifically which lands, currently designated as available for disposal, meet one or more of FLPMA's Section 203 sale criteria. The proposed amendment would clarify management direction in the RMP to identify which lands currently designated as available for disposal may be further designated as either available for disposal through sale or not available.

Amending the Cottonwood RMP would not increase the number of acres previously identified in the RMP as available for disposal. It would merely clarify which of those parcels meet Section 203 sale criteria. The proposed amendment would not change the BLM's ability to dispose of those lands through exchange, Recreation & Public Purposes Act leases, or other means of conveyance; or to retain them. Any determination of the availability of identified BLM parcels for disposal, however, would not remove the BLM's obligation to carry out appropriate environmental analysis prior to any proposed sale, exchange, issuance of an R&PP Act lease, or conveyance through any other means, nor would it change BLM's authority to retain those lands under Federal management.

As part of evaluating the availability of the 19,054 acres for potential disposal by sale, the BLM will consider the following described public lands in Idaho County, Idaho, for sale under the authority of Section 203 of FLPMA if they are found to meet Section 203 sale criteria:

Boise Meridian

T. 29 N., R. 8 E.,

Parcel One: sec. 33, lots 19 and 20. (9.97 acres, IDI-37780)

Parcel Two: sec. 33, lots 5, 14, and 18. (12.49 acres, IDI-37781)

The area described for these proposed sales contains 22.46 acres. As part of the environmental assessment for the proposed sales the BLM will consider the appropriate method of sale (competitive, modified competitive or direct).

In addition to initiating scoping for this RMP amendment, this notice also segregates the above-mentioned parcels from appropriation under the public land laws, including the mining laws, except the sale provisions of FLPMA. The segregation of the public lands being considered for sale will be for a period of 2 years. Conveyance of the identified public land will be subject to valid existing rights and encumbrances of record, including but not limited to rights-of-way for roads and public utilities. Conveyance of any mineral interest pursuant to Section 209 of FLPMA will be considered as part of processing the proposed sales.

On June 18, 2015, the two above-described parcels identified for potential sale will be segregated from appropriation under the public land laws, including the United States mining laws, except the sale provisions of FLPMA. Until completion of the sale, the BLM will no longer accept land use applications affecting the two identified public land parcels, except applications for the amendment of previously filed right-of-way applications or existing authorizations to increase the term of the grants in accordance with 43 CFR 2807.15 and 2886.15. The segregative effect will terminate upon issuance of a patent, publication in the Federal Register of a termination of the segregation, or June 19, 2017, whichever occurs first, unless extended by the BLM Idaho State Director in accordance with 43 CFR 2711.1-2(d) prior to the termination date.

The Cottonwood RMP identifies 19,054 acres of public land as available for disposal. However, the RMP fails to specify whether those lands have been evaluated under FLPMA's Section 203 sale criteria.

The purpose of the public scoping process is to determine relevant issues that will influence the scope of the environmental analysis, including alternatives, and guide the planning process. A preliminary issue for the plan amendment area has been identified by BLM personnel; Federal, State, and local agencies; and other stakeholders. The issue is to identify lands currently designated as available for disposal, that also meet FLPMA's Section 203 sale criteria (43 U.S.C. 1713(a)).

Comments may also be submitted regarding the planning criteria. Preliminary planning criteria include:

1. The proposed amendment will only address lands already designated as available for disposal (approximately 19,054 acres in Latah, Clearwater, Nez Perce, Lewis, Idaho, and Adams Counties of Idaho) that meet FLPMA's Section 203 sale criteria. No other decisions associated with the Cottonwood RMP will be amended.

2. The plan amendments will comply with FLPMA, NEPA, and all other applicable laws, regulations, and policies.

3. For program-specific guidance regarding decisions at the land use planning level, the process will follow the BLM's policies in the Land Use Planning Handbook, H-1601-1.

4. Public participation and collaboration will be an integral part of the planning process.

5. The BLM will strive to make decisions in the plan amendments compatible with the existing plans and policies of adjacent local, State, and Federal agencies, and affected Native American tribes, as long as the decisions are consistent with the purposes, policies, and programs of Federal law and regulations applicable to public lands.

6. The BLM will work collaboratively with cooperating agencies and all other interested groups, agencies, and individuals.

The public is invited to provide scoping comments on issues mentioned above, as well as other issues that should be addressed in the preparation of the plan amendment or the proposed sales.

You may submit comments on issues and planning criteria in writing to the BLM using one of the methods listed in the ADDRESSES section above. To be most helpful, you should submit comments by the close of the 30-day scoping period.

The BLM will use and coordinate the NEPA scoping process to help fulfill the public involvement requirements under the National Historic Preservation Act (54 U.S.C. 306108) as provided in 36 CFR 800.2(d)(3). The information about historic and cultural resources within the area potentially affected by the proposed actions will assist the BLM in identifying and evaluating impacts to such resources.

The BLM will consult with Indian tribes on a Government-to-Government basis in accordance with Executive Order 13175 and other policies. Tribal concerns, including impacts on Indian trust assets and potential impacts to cultural resources, will be given due consideration. Federal, State, and local agencies, along with tribes and other stakeholders that may be interested in or affected by the proposed actions that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so. The BLM will evaluate identified issues to be addressed in the plan and will place them into one of three categories:

1. Issues to be resolved in the plan amendment;

2. Issues to be resolved through policy or administrative action; or

3. Issues beyond the scope of this plan amendment.

The BLM will provide an explanation in the EA as to why an issue was placed in category two or three. The public is also encouraged to help identify any management questions and concerns that should be addressed in the plan. The BLM will work collaboratively with interested parties to identify the management decisions that are best suited to local, regional, and national needs and concerns.

The BLM will use an interdisciplinary approach to develop the plan amendment in order to consider the variety of resource issues and concerns identified. Specialists with expertise in the following disciplines will be involved in the planning process: Minerals and geology, forestry, outdoor recreation, archaeology, wildlife and fisheries, lands and realty, hydrology, and soils.

Authority: 43 U.S.C. 1713(a); 43 CFR 2711.1-2, 40 CFR 1501.7, and 43 CFR 1610.2.

Jeffery L. Foss,
Acting BLM Idaho State Director.

[FR Doc. 2015-15032 Filed 6-17-15; 8:45 am]

BILLING CODE 4310-GG-P